DEPARTMENT OF ENERGY

Federal Energy Regulatory Commission

[Docket No. RP03-361-001]

Florida Gas Transmission Company; Notice of Compliance Filing

July 9, 2003.

Take notice that on July 3, 2003, Florida Gas Transmission Company (FGT) tendered for filing as part of its FERC Gas Tariff, Third Revised Volume No. 1, the following tariff sheets to become effective July 1, 2003:

Substitute Twelfth Revised Sheet No. 102B.

Substitute Eighth Revised Sheet No. 102C.

Substitute Original Sheet No. 173A.

FGT states that on March 12, 2003, in Docket No. RM96-1-024, the Commission issued Order No. 587-R (Order). In the Order, the Commission amended its regulations governing standards for partial day recalls. The Order adopts the most recent version, Version 1.6, of the consensus industry standards, promulgated by the Wholesale Gas Quadrant of the North American Energy Standards Board (NAESB). The Order required pipelines to make tariff filings by May 1, 2003 to implement provisions of the Order to become effective on July 1, 2003. FGT submitted its compliance filing on April 30, 2003. On June 25, 2003, the Commission issued an order accepting FGT's April 30, 2003 filing in Docket No. RP03-361-000 (“June 25 Order”) subject to FGT filing revisions to the above tariff sheets within fifteen days of the order date. FGT states that the instant filing reflects revisions as directed by the June 25 Order.

Any person desiring to protest said filing should file a protest with the Federal Energy Regulatory Commission, 888 First Street, NE., Washington, DC 20426, in accordance with ¶ 385.211 of the Commission's Rules and Regulations. All such protests must be filed in accordance with ¶ 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 15, 2003.

Magalie R. Salas,
Secretary.

[FR Doc. 03-17882 Filed 7-15-03; 8:45 am]

BILLING CODE 6717-01-P